DEPARTMENT OF HOMELAND SECURITY

Federal Emergency Management Agency

44 CFR Part 67

[Docket No. FEMA-B-1018]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before February 12, 2009.

ADDRESSES: The corresponding preliminary Flood Insurance Rate Map (FIRM) for the proposed BFEs for each community are available for inspection at the community's map repository. The respective addresses are listed in the table below.

You may submit comments, identified by Docket No. FEMA-B-1018, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location** | * Elevation in feet (NGVD) + Elevation in feet (NAVD) # Depth in feet above ground: Existing | * Elevation in feet (NGVD) + Elevation in feet (NAVD) # Depth in feet above ground: Modified
Township of Columbia, Michigan
Michigan | Township of Columbia | Goose Creek | Approximately 0.6 mile upstream of M 50 | None | +945
|  |  | Approximately 0.7 mile upstream of M 50 | None | +945
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Township of Columbia
Maps are available for inspection at Township Offices, 8500 Jefferson Road, Brooklyn, MI 49230.

Flooding source(s) | Location of referenced elevation** | * Elevation in feet (NGVD) + Elevation in feet (NAVD) # Depth in feet above ground: Effective | * Elevation in feet (NGVD) + Elevation in feet (NAVD) # Depth in feet above ground: Modified | Communities affected
Hamilton County, Florida, and Incorporated Areas
Little Alapaha River | At the confluence with Unnamed Tributary | +79 | +81 | Unincorporated Areas of Hamilton County.
| At the confluence with Little Alapaha River Unnamed Tributary | None | +85
Little Alapaha River Unnamed Tributary | At the confluence with Little Alapaha River | None | +85 | Unincorporated Areas of Hamilton County.
| Approximately 950 feet upstream of U.S. Highway 129 | None | +125
Suwannee River Unnamed Tributary | Just upstream of Jewett Street | None | +88 | Town of White Springs.
| Approximately 600 feet upstream of 1st Street | None | +109
Timber Lake | Entire shoreline | None | +135 | Unincorporated Areas of Hamilton County.
Turket Creek | Just upstream of the confluence with the Alapahoochee River | None | +92 | Unincorporated Areas of Hamilton County, Town of Jennings.
| Approximately 1,000 feet upstream of Hamilton Avenue | None | +138
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Jennings
Maps are available for inspection at Jennings Town Hall, 1199 Hamilton Avenue, Jennings, FL.
Town of White Springs
Maps are available for inspection at White Springs Town Hall, 10363 Bridge Street, White Springs, FL.
Unincorporated Areas of Hamilton County
Maps are available for inspection at Hamilton County Clerk's Office, 207 NE 1st Street, Room 106, Jasper, FL.
Lamar County, Mississippi, and Incorporated Areas
Gordons Creek | Approximately 1,984 feet upstream of Interstate 59 | None | +252 | Unincorporated Areas of Lamar County.
| At Interstate 59 | None | +252
Little Beaver Creek | Approximately 0.8 miles downstream of Browns Bridge Road | None | +227 | Unincorporated Areas of Lamar County.
| Approximately 210 feet upstream of Browns Bridge Road | None | +237
Mill Creek No. 1 | Approximately 1,800 feet downstream of Hardie Road | None | +260 | Unincorporated Areas of Lamar County, Town of Sumrall.
| Approximately 1.6 miles upstream of State Highway 42 | None | +313
Mixons Creek Tributary 3 | Approximately 935 feet upstream of the confluence of Mixons Creek | None | +187 | Unincorporated Areas of Lamar County.
| Approximately 1.5 miles upstream of the confluence of Mixons Creek | None | +235
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Sumrall
Maps are available for inspection at Town Hall, 4880 Highway 589, Sumrall, MS 39482.
Unincorporated Areas of Lamar County
Maps are available for inspection at County Administrator's Office, 403 Main Street, Purvis, MS 39475.
Lauderdale County, Mississippi, and Incorporated Areas
McLemore Branch | Approximately 2,427 feet upstream of the confluence of Newell Branch | None | +357 | City of Meridian, Unincorporated Areas of Lauderdale County.
| Approximately 3,375 feet upstream of Windmill Drive | None | +403
Sowashee Creek Tributary 10 | Approximately 700 feet downstream of Dale Drive | None | +360 | Town of Marion, Unincorporated Areas of Lauderdale County.
| Approximately 710 feet upstream of Cotton Gin Road | None | +399
Sowashee Creek Tributary 8 | Approximately 990 feet upstream of the confluence of Sowashee Creek Tributary 10 | None | +388 | Town of Marion, Unincorporated Areas of Lauderdale County.
| Approximately 2,475 feet upstream of State Highway 39 | None | +464
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Meridian
Maps are available for inspection at Meridian City Hall, 601 24th Avenue, Meridian, MS 39302.
Town of Marion
Maps are available for inspection at Marion Town Hall, 6021 Dale Drive, 39342, MS.
Unincorporated Areas of Lauderdale County
Maps are available for inspection at Tax Assessor's Office, 500 Constitution Avenue, Meridian, MS 39301.
Clark County, Ohio, and Incorporated Areas
Chapman Creek | 3300 feet upstream from confluence of Chapman Creek and Mad River | None | +950 | Unincorporated Areas of Clark County
| 5200 feet upstream from confluence of Chapman Creek and Mad River | None | +959
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Clark County
Maps are available for inspection at Springview Government Center, 3130 East Main Street, Springfield, OH 45505.
Preble County, Ohio, and Incorporated Areas
Periwinkle Run | Confluence with Sevenmile Creek | None | +1049 | Unincorporated Areas of Preble County.
| 2,270 feet upstream of confluence with Sevenmile Creek | None | +1057
Sevenmile Creek | Upstream of Eaton-New Hope Road bridge | None | +1049 | Unincorporated Areas of Preble County.
| 3,175 feet Upstream of Eaton-New Hope Road bridge | None | +1059
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Preble County
Maps are available for inspection at Preble County Courthouse, 101 East Main Street, Eaton, OH 45320.
Sauk County, Wisconsin, and Incorporated Areas
Baraboo River | Columbia County boundary | +806 | +802 | City of Baraboo, City of Reedsburg, Unincorporated Areas of Sauk County, Village of Lavalle, Village of North Freedom, Village of Rock Springs, Village of West Baraboo.
| 3.7 miles downstream of Juneau County boundary | +904 | +905
Baraboo River Tributary | 64 ft upstream of State Hwy 33 | None | +849 | Unincorporated Areas of Sauk County.
| 350 ft upstream of Berkley Boulevard | None | +880
Clark Creek | Confluence with Baraboo River | None | +818 | Unincorporated Areas of Sauk County.
| 0.37 mi upstream from bridge at Tower Road | None | +1234
Devil's Lake Tributary | Confluence with Baraboo River | None | +819 | City of Baraboo, Unincorporated Areas of Sauk County.
| 0.57 mi upstream from County Highway DL | None | +979
Hay Creek | 0.56 mi upstream of County Highway F | None | +909 | Unincorporated Areas of Sauk County.
| 161 ft upstream of County Highway F | None | +909
Hulbert Creek | 0.32 mi upstream of U.S. Highway 12 | +826 | +827 | City of Wisconsin Dells.
| 0.51 mi upstream of Trout Road (Wisconsin Dells) | +829 | +831
Pine Creek | 874 ft downstream of Hatchery Road | None | +858 | Unincorporated Areas of Sauk County.
| Confluence with Skillet Creek | None | +869
Skillet Creek | Confluence with Pine Creek | None | +869 | Unincorporated Areas of Sauk County.
| 28 ft upstream of bridge at State Highway 159 | None | +981
Tributary to Devil's Lake Tributary | Confluence with Devil's Lake Tributary | None | +871 | Unincorporated Areas of Sauk County.
| 0.67 mi upstream from bridge at State Highway 159 | None | +1117
Wisconsin River | 6.9 miles upstream of Richland County boundary | +710 | +711 | Village of Merrimac, Unincorporated Areas of Sauk County, Village of Prairie Du Sac, Village of Sauk City, Village of Spring Green.
| 12.5 miles downstream of Kilbourn Dam | +807 | +808
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Baraboo
Maps are available for inspection at 135 4th Street, Barboo, WI 53913.
City of Reedsburg
Maps are available for inspection at 134 South Locust Street, Reedsburg, WI 53959.
City of Wisconsin Dells
Maps are available for inspection at 300 La Crosse Street, Wisconsin Dells, WI 53965.
Unincorporated Areas of Sauk County
Maps are available for inspection at 505 Broadway, Baraboo, WI 53913.
Village of Lake Delton
Maps are available for inspection at 50 Wisconsin Dells Parkway South, Lake Delton, WI 53940.
Village of Lavalle
Maps are available for inspection at 103 West Main Street, La Valle, WI 53941.
Village of Merrimac
Maps are available for inspection at 100 Cook Street, Merrimac, WI 53561.
Village of North Freedom
Maps are available for inspection at 103 North Maple Street, North Freedom, WI 53951.
Village of Prairie Du Sac
Maps are available for inspection at 335 Galena Street, Prairie du Sac, WI 53578.
Village of Rock Springs
Maps are available for inspection at 201 West Broadway Avenue, Rock Springs, WI 53961.
Village of Sauk City
Maps are available for inspection at 726 Water Street, Sauk City, WI 53583.
Village of Spring Green
Maps are available for inspection at 154 North Lexington Street, Spring Green, WI 53588.
Village of West Baraboo
Maps are available for inspection at 500 Cedar Street, Baraboo, WI 53913.

(Catalog of Federal Domestic Assistance No. 97.022, “Flood Insurance.”)
Dated: November 3, 2008.
Michael K. Buckley,
Acting Assistant Administrator, Mitigation Directorate, Department of Homeland Security, Federal Emergency Management Agency.

[FR Doc. E8-27038 Filed 11-13-08; 8:45 am]

BILLING CODE 9110-12-P